DEPARTMENT OF TRANSPORTATION

Federal Railroad Administration

Petition for Waiver of Compliance

In accordance with part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

Union Pacific Railroad

(Docket Number FRA-2005-21241)

The Union Pacific Railroad (UP) seeks a permanent waiver of compliance from Control of Alcohol and Drug Use, 49 CFR 219.601(b)(1)(2), which requires every covered employee subject to random testing to have “a substantially equal statistical chance of being selected within a specified time frame.” At UP's current random testing rate of 50 percent, the drug and alcohol positive rates for each of its 25 testing pools range from 2.9 percent to 0.0 percent. UP seeks permission to increase or decrease the random testing rate for each employee testing pool in accordance with that pool's previous positive rate to allow it to devote testing resources to where they are most needed. In no case would UP establish a pool's random testing rate below FRA's minimum annual testing rates, which for 2005, are 25 percent for drugs and 10 percent for alcohol.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-21241) and must be submitted to the Docket Clerk, DOT Central Docket Management Facility, Room PL-401, Washington, DC 20590-0001. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC, on June 13, 2005.
Grady C. Cothen, Jr.,
Deputy Associate Administrator for Safety Standards and Program Development.

[FR Doc. 05-12121 Filed 6-20-05; 8:45 am]

BILLING CODE 4910-06-P